DEPARTMENT OF THE INTERIOR

National Park Service

[NPS-WASO-NAGPRA-NPS0025701; PPWOCRADN0-PCU00RP14.R50000]

Notice of Intent To Repatriate Cultural Items: Berkshire Museum, Pittsfield, MA

AGENCY: National Park Service, Interior.

ACTION: Notice.

SUMMARY: The Berkshire Museum, in consultation with the appropriate Indian Tribes or Native Hawaiian organizations, has determined that the cultural item listed in this notice meets the definition of sacred object and object of cultural patrimony. Lineal descendants or representatives of any Indian Tribe or Native Hawaiian organization not identified in this notice that wish to claim this cultural item should submit a written request to the Berkshire Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Berkshire Museum at the address in this notice by August 13, 2018.

ADDRESSES: Jason Vivori, Collections Experience Manager, Berkshire Museum, 39 South Street, Pittsfield, MA 01201, telephone (413) 443-7171 ext. 341, email jvivori@berkshiremuseum.org.

SUPPLEMENTARY INFORMATION: Notice is here given in accordance with the Native American Graves Protection and Repatriation Act (NAGPRA), 25 U.S.C. 3005, of the intent to repatriate a cultural item under the control of the Berkshire Museum, Pittsfield, MA, that meets the definitions of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

In 1903, one cultural item was removed from Pine Point in Becker County, MN, by John K. West, an entrepreneur from western Massachusetts, who arrived in Detroit Lakes in 1881 with his wife, Ms. Jessie Campbell West. Both individuals spent considerable time in Detroit Lakes and other areas within Becker County and acquired numerous objects from White Earth Reservation. Shortly after Ms. West's death in January 1903, several objects were sent to Massachusetts and were acquired by the Berkshire Museum. The one sacred object/object of cultural patrimony is described as an “Ojibwa large drum” (#C1992.53) otherwise referred to as a “Big Drum” or “Manidoo Dewe'igan” (meaning “Spirit Drum”).

The Pine Point community, where this particular drum originated, is within the boundaries of Becker County on the White Earth Reservation. From the creation of the White Earth Reservation in 1867 through the mid-1900s, the people of White Earth existed often under great hardship due to significant economic, cultural, and religious oppression combined with well-documented dispossession of land and other resources. Historically, the Big Drum served an important role in maintaining peace between communities and such drums continue to hold a spiritual and healing role with ceremonies that are still held on the White Earth Reservation. In addition, the ongoing historical and spiritual importance of these drums is that they are central to the White Earth people as a whole and could never have been alienated, appropriated, or conveyed by any individual regardless of whether or not the individual was a member of the tribe. Thomas Vennum wrote in The Ojibwa Dance Drum, “Because song and dance are traditionally considered to be sacred in origin they are for Native Americans a form of prayer . . . and because most song is accompanied by percussion of some sort—drums more often than not—the instruments themselves become sacred through their associations.” This feeling was reaffirmed by the White Earth Band of the Minnesota Chippewa Tribe during consultation with the Berkshire Museum. In a letter dated April 5, 2017, the White Earth Band of the Minnesota Chippewa Tribe requested the return of the Big Drum due to its substantial cultural and religious significance.

Determinations Made by the Berkshire Museum

Officials of the Berkshire Museum have determined that:

• Pursuant to 25 U.S.C. 3001(3)(C), the one cultural item described above is a specific ceremonial object needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the sacred object and object of cultural patrimony and the White Earth Band of the Minnesota Chippewa Tribe.

Additional Requestors and Disposition

Lineal descendants or representatives of any Indian Tribe or Native Hawaiian organization not identified in this notice that wish to claim these cultural items should submit a written request with information in support of the claim to Jason Vivori, Collections Experience Manager, Berkshire Museum, 39 South Street, Pittsfield, MA 01201, telephone (413) 443-7171 ext. 341, email jvivori@berkshiremuseum.org, by August 13, 2018. After that date, if no additional claimants have come forward, transfer of control of the sacred object and object of cultural patrimony to the White Earth Band of the Minnesota Chippewa Tribe may proceed.

The Berkshire Museum is responsible for notifying the White Earth Band of the Minnesota Chippewa Tribe that this notice has been published.

Dated: June 1, 2018.
Melanie O'Brien,
Manager, National NAGPRA Program.

[FR Doc. 2018-14896 Filed 7-11-18; 8:45 am]

BILLING CODE 4312-52-P